DEPARTMENT OF STATE

[Public Notice: 12627; No. 2024-12]

Determination Pursuant to the Foreign Missions Act

Pursuant to the authority vested in the U.S. Secretary of State by the laws of the United States, including under the Foreign Missions Act, 22 U.S.C. 4301, et seq. (“the Act”), and delegated pursuant to U.S. Department of State Delegation of Authority No. 214, dated September 20, 1994, and after due consideration of matters related to the protection of the interests of the United States, as well as the benefits, privileges, and immunities provided to missions of the United States abroad, I hereby designate as a benefit for purposes of the Act exemption from charges assessed by the Metropolitan Transportation Authority of New York for entry into its designated “Congestion Relief Zone” for foreign missions and certain international organizations. This benefit extends to members and personnel of and representatives to such foreign missions and international organizations who enjoy certain tax-free privileges as determined by the Office of Foreign Missions and may be extended to vehicles bearing diplomatic and consular license plates issued by the Office of Foreign Missions.

I determine that such exemption shall be provided to such foreign missions and international organizations on such terms and conditions as may be approved by the Office of Foreign Missions and that any state or local laws to the contrary are hereby preempted.

This action is necessary to protect the interests of the United States, including with respect to fulfilling its international and domestic legal obligations and ensuring similar exemptions for U.S. missions and mission members abroad, and to facilitate relations between the United States and foreign states and relations between the United States and international organizations.

The exemption from charges assessed by the Metropolitan Transportation Authority of New York for entry into its designated “Congestion Relief Zone” provided by this designation and determination shall apply to charges that have been or will be assessed against any foreign mission or international organization subject to this determination.

Rebecca E. Gonzales,
Director, Office of Foreign Missions, Department of State.

[FR Doc. 2024-31595 Filed 1-3-25; 8:45 am]

BILLING CODE 4711-11-P